DEPARTMENT OF HOMELAND SECURITY

Federal Emergency Management Agency

44 CFR Part 65

[Docket ID FEMA-2010-0003; Internal Agency Docket No. FEMA-B-1081]

Changes in Flood Elevation Determinations

AGENCY: Federal Emergency Management Agency, DHS.

ACTION: Interim rule.

SUMMARY: This interim rule lists communities where modification of the Base (1% annual-chance) Flood Elevations (BFEs) is appropriate because of new scientific or technical data. New flood insurance premium rates will be calculated from the modified BFEs for new buildings and their contents.

DATES: These modified BFEs are currently in effect on the dates listed in the table below and revise the Flood Insurance Rate Maps (FIRMs) in effect prior to this determination for the listed communities.

From the date of the second publication of these changes in a newspaper of local circulation, any person has ninety (90) days in which to request through the community that the Deputy Federal Insurance and Mitigation Administrator reconsider the changes. The modified BFEs may be changed during the 90-day period.

ADDRESSES: The modified BFEs for each community are available for inspection at the office of the Chief Executive Officer of each community. The respective addresses are listed in the table below.

FOR FURTHER INFORMATION CONTACT: Kevin C. Long, Acting Chief, Engineering Management Branch, Mitigation Directorate, Federal Emergency Management Agency, 500 C Street, SW., Washington, DC 20472, (202) 646-2820, or (e-mail) kevin.long@dhs.gov.

SUPPLEMENTARY INFORMATION: The modified BFEs are not listed for each community in this interim rule. However, the address of the Chief Executive Officer of the community where the modified BFE determinations are available for inspection is provided.

Any request for reconsideration must be based on knowledge of changed conditions or new scientific or technical data.

The modifications are made pursuant to section 201 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required either to adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own or pursuant to policies established by other Federal, State, or regional entities. The changes in BFEs are in accordance with 44 CFR 65.4.

National Environmental Policy Act. This interim rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This interim rule is not a significant regulatory action under the criteria of section 3(f) of Executive Order 12866 of September 30, 1993, Regulatory Planning and Review, 58 FR 51735.

Executive Order 13132, Federalism. This interim rule involves no policies that have federalism implications under Executive Order 13132, Federalism.

Executive Order 12988, Civil Justice Reform. This interim rule meets the applicable standards of Executive Order 12988.

List of Subjects in 44 CFR Part 65

Flood insurance, Floodplains, Reporting and recordkeeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location and case No. | Date and name of newspaper where notice was published | Chief executive officer of community | Effective date of modification | Community No.
Arizona:
Maricopa | Town of Buckeye (08-09-0929P) | August 27, 2009; September 3, 2009; Arizona Business Gazette | The Honorable Jackie Meck, Mayor, City of Buckeye, 1101 East Ash Avenue, Buckeye, AZ 85326 | August 10, 2009 | 040039
Maricopa | City of Goodyear (08-09-0929P) | August 27, 2009; September 3, 2009; Arizona Business Gazette | The Honorable James M. Cavanaugh, Mayor, City of Goodyear, 190 North Litchfield Road, Goodyear, AZ 85338 | August 10, 2009 | 040046
Maricopa | Unincorporated areas of Maricopa County (08-09-0929P) | August 27, 2009; September 3, 2009; Arizona Business Gazette | The Honorable Andrew W. Kunasek, Chairman, Maricopa County Board of Supervisors, 301 West Jefferson, 10th Floor, Phoenix, AZ 85003 | August 10, 2009 | 040037
Colorado:
Adams | City of Northglenn (09-08-0457P) | August 27, 2009; September 3, 2009; Northglenn Thornton Sentinel | The Honorable Kathleen Novak, Mayor, City of Northglenn, 11701 Community Center Drive, Northglenn, CO 80233 | August 20, 2009 | 080257
Adams | City of Thornton (09-08-0457P) | August 27, 2009; September 3, 2009; Northglenn Thornton Sentinel | The Honorable Erik Hansen, Mayor, City of Thornton, 9500 Civic Center Drive, Thornton, CO 80229 | August 20, 2009 | 080007
Arapahoe | Unincorporated areas of Arapahoe County (09-08-0001P) | August 24, 2009; August 31, 2009; Denver Post | The Honorable Susan Beckman, Chair, Arapahoe County Board of Commissioners, 5334 South Prince Street, Littleton, CO 80166 | December 29, 2009 | 080011
Florida: Lee | Unincorporated areas of Lee County (09-04-5099P) | August 28, 2009; September 4, 2009; News Press | The Honorable Ray Judah, Chairman, Lee County Board of Commissioners, P.O. Box 398, Fort Myers, FL 33902 | January 4, 2009 | 125124
North Carolina:
Durham | Durham County (Unincorporated Areas) (09-04-5688P) | July 31, 2009; August 7, 2009; The Herald-Sun | Mr. Michael M. Ruffin, Manager, Durham County, 200 East Main Street, 2nd Floor, Old Courthouse, Durham, NC 27701 | July 24, 2009 | 370085
Durham | City of Durham (09-04-5688P) | July 31, 2009; August 7, 2009; The Herald-Sun | The Honorable William V. Bell, Mayor, City of Durham, 101 City Hall Plaza, Durham, NC 27701 | July 24, 2009 | 370086
Oregon:
Umatilla | City of Stanfield (09-10-0493P) | August 28, 2009; September 4, 2009; East Oregonian | The Honorable Thomas J. McCann, Mayor, City of Stanfield, P.O. Box 369, Stanfield, OR 97875 | August 17, 2009 | 410213
Umatilla | Unincorporated areas of Umatilla County (09-10-0493P) | August 28, 2009; September 4, 2009; East Oregonian | The Honorable Larry Givens, Chairman, Umatilla County Board of Commissioners, 216 Southeast 4th Street, Pendleton, OR 97801 | August 17, 2009 | 410204
Texas:
Collin | Unincorporated areas of Collin County (08-06-2363P) | August 20, 2009; August 27, 2009; Sachse News August 19, 2009; August 26, 2009; Wylie News | The Honorable Keith Self, Collin County Judge, 2300 Bloomdale Road, Suite 4192, McKinney, TX 75071 | November 25, 2009 | 480130
Collin | City of Sachse (08-06-2363P) | August 20, 2009; August 27, 2009; Sachse News | The Honorable Mike Felix, Mayor, City of Sachse, 5109 Peachtree Lane, Sachse, TX 75048 | November 25, 2009 | 480186
Collin | City of Wylie (08-06-2363P) | August 19, 2009; August 26, 2009; Wylie News | The Honorable Eric Hogue, Mayor, City of Wylie, 2000 State Highway 78 North, Wylie, TX 75098 | November 25, 2009 | 480759
Webb | Unincorporated areas of Webb County (08-06-3105P) | August 7, 2009; August 14, 2009; Laredo Morning Times | The Honorable Danny Valdez, Webb County Judge, 1000 Houston Street, 3rd Floor, Laredo, TX 78040 | December 14, 2009 | 481059
Williamson | City of Cedar Park (08-06-2893P) | August 13, 2009; August 20, 2009; Hill Country News | The Honorable Bob Lemon, Mayor, City of Cedar Park, City Hall, 600 North Bell Boulevard, Cedar Park, TX 78613 | December 18, 2009 | 481282

(Catalog of Federal Domestic Assistance No. 97.022, “Flood Insurance.”)

Dated: March 18, 2010.
Edward L. Connor,
Acting Federal Insurance and Mitigation Administrator, Mitigation, Department of Homeland Security, Federal Emergency Management Agency.

[FR Doc. 2010-8041 Filed 4-8-10; 8:45 am]

BILLING CODE 9110-12-P